DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number: 1660-0069, National Fire Incident Reporting System (NFIRS) v5.0.

SUMMARY: The Federal Emergency Management Agency, as part of its continuing effort to reduce paperwork and respondent burden, invites the general public and other Federal agencies to take this opportunity to comment on a revised information collection. In accordance with the Paperwork Reduction Act of 1995, this notice seeks comments concerning the continued use of the National Fire Incident Reporting System (NFIRS) v5.0 database.

SUPPLEMENTARY INFORMATION: The National Commission on Fire Prevention and Control conducted a comprehensive study of the Nation's fire problem and recommended to Congress actions to mitigate the fire problem, reduce loss of life and property, and educate the public on fire protection and prevention. As a result of the study, Congress enacted Public Law 93-498, Federal Fire Prevention and Control Act of 1974, which establishes the U.S. Fire Administration to administer fire prevention and control programs, supplement existing programs of research, training, and education, and encourage new and improved programs and activities by State and local governments.

Section 9(a) of the Act authorizes the Administrator, U.S. Fire Administration (USFA), to operate directly or through contracts or grants, an integrated, comprehensive method to select, analyze, publish, and disseminate information related to prevention, occurrence, control, and results of fires of all types.

Collection of Information

Title: National Fire Incident Reporting System (NFIRS) v5.0.

Type of Information Collection: Revision of a currently approved collection.

OMB Number: 1660-0069.

Form Numbers: The National Fire Incident Reporting System (NFIRS) v5.0.

Abstract: NFIRS provides a mechanism using standardized reporting methods to collect and analyze fire incident data at the Federal, State, and local levels. Data analysis helps local fire departments and States to focus on current problems, predict future problems in their communities, and measure whether their programs are working.

Affected Public: State, Local or Tribal Government.

Estimated Total Annual Burden Hours: 10,769,720 burden hours.

Annual Hour Burden

Table A.12—Estimated Annualized Burden Hours and Costs
Type of respondent | Form name/form number | Number of respondents | Number of responses per respondent | Average burden per response (in hours) | Total annual burden (in hours) | Average hourly wage rate | Total annual respondent cost ($)
State, Local, or Tribal Government | NFIRS Version 5.0 Modules 1-12 (Manual) | 2,200 | 950 | 1.13 hours (68 minutes) | 2,361,700 | 21.22 | 50,115,274.00
State, Local, or Tribal Government | NFIRS Version 5.0 Modules 1-12 (Electronic) | 19,800 | 942 | 27 min (0.45 hr) | 8,393,220 | 21.22 | 178,104,128.40
State, Local, or Tribal Government | NFA Program Manager Training | 30 | 1 | 48 hours | 1,440 | 21.22 | 30,556.80
State, Local, or Tribal Government | NFA Program Manager Orientation | 60 | 1 | 16 hours | 960 | 21.22 | 20,371.20
State, Local, or Tribal Government | NFIC Training Workshop | 100 | 1 | 16 hours | 1,600 | 21.22 | 33,952.00
State, Local, or Tribal Government | NFIC CD/on-site Orientation | 200 | 1 | 4 hours | 800 | 21.22 | 16,976.00
State, Local, or Tribal Government | Introduction to NFRIS Distance Learning | 500 | 1 | 20 hours | 10,000 | 21.22 | 212,200.00
Total |  | 22,890 |  |  | 10,769,720 |  | 228,553,458.40

Estimated Cost: The estimated annualized cost to respondents based on wage rate categories is $228,553,458.40. The estimated annual cost to the Federal Government is $13,310,000.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before February 23, 2009.

ADDRESSES: Interested persons should submit written comments to Office of Management, Records Management Division, Federal Emergency Management Agency, 500 C Street, SW., Washington, DC 20472.

FOR FURTHER INFORMATION CONTACT: Contact Mark Whitney, Fire Program Specialist, United States Fire Administration, National Fire Data Center, (301) 447-1836 for additional information. You may contact the Records Management Branch for copies of the proposed collection of information at facsimile number (202) 646-3347 or e-mail address: FEMA-Information-Collections@dhs.gov.

Dated: December 19, 2008.
Samuel C. Smith,
Acting Director, Records Management Division, Office of Management, Federal Emergency Management Agency, Department of Homeland Security.

[FR Doc. E8-30719 Filed 12-23-08; 8:45 am]

BILLING CODE 9110-12-P